ENVIRONMENTAL PROTECTION AGENCY

[FRL-7965-9]

Proposed Settlement Agreement, Clean Air Act Citizen Suit

AGENCY: Environmental Protection Agency (EPA).

ACTION: Notice of Proposed Settlement Agreement; Request for Public Comment

SUMMARY: In accordance with section 113(g) of the Clean Air Act, as amended (“Act”), 42 U.S.C. 7413(g), notice is hereby given of a proposed partial settlement agreement, to address a lawsuit filed by Environmental Defense, the Natural Resources Defense Council, the Sierra Club and Transportation Solutions Defense and Education Fund (collectively “Plaintiffs”): Environmenatl Defense, et al. v. EPA, et al., No. 04-1291 (D.C. Cir.). On August 30, 2004, Plaintiffs filed a complaint challenging EPA's amendments to rules on determining conformity of federal transportation actions to State Implementation Plans (SIPs), issued under section 176(c) of the Act. Petitioners challenged several aspects of EPA's recent amendments to the transportation conformity rules addressing the new 8-hour ozone and P.M. 2.5 National Ambient Air Quality Standards. (69 FR 40,004, July 1, 2004).

DATES: Written comments on the proposed settlement agreement must be received by October 11, 2005.

ADDRESSES: Submit your comments, identified by docket ID number OGC-2005-0005, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave, NW., Washington, DC, between 8:30 a.m. and 4:30 p.m. Monday through Friday, excludign legal holidays. Comments on a disk or CD-ROM should be formatted in Wordperfect or ASCII file, avoiding the use of special characters and any form of encryption, and may be mailed to the mailing address above.

FOR FURTHER INFORMATION CONTACT: Sara Schneeberg, Air and Radiation Law Office (2344A), Office of General Counsel, U.S. Environmental Protection Agency, 1200 Pennsylvania Ave., NW., Washington, DC 20460. Telephone: (202) 564-5592.

SUPPLEMENTARY INFORMATION:

I. Additional Information About the Proposed Settlement

EPA has agreed to take final action on further amendments to the transportation conformity rules to address requirements relating to PM 2.5 hotspots. EPA had indicated in the July 2004 final rule that the agency believed transportation conformity provisions relating to PM 2.5 hotspot air quality analyses would be appropriate, but the agency was not in a position to promulgate final regulations on that issue at that time. EPA indicated that it intended to take subsequent action with respect to this issue. Therefore, EPA proposes to enter into a settlement with Petitioners in which EPA will commit to take final action amending the conformity regulations to address PM 2.5 hotspot analyses by no later than March 31, 2006.

For a period of thirty (30) days following the date of publication of this notice, the Agency will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, based on any comment which may be submitted, that consent to the settlement agreement should be withdrawn, the terms of the agreement will be affirmed.

II. Additional Information About Commenting on the Proposed Settlement

A. How Can I Get a Copy of the Settlement?

EPA has established an official public docket for this action under Docket ID No. OGC-2005-0005 which contains a copy of the settlement. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

It is important to note that EPA's policy is that public comments, whether submitted electronically or in paper, will be made available for public viewing in EPA's electronic public docket as EPA receives them and without change, unless the comment contains copyrighted material, CBI, or other information whose disclosure is restricted by statue. Information claimed at CBI and other information whose disclosure is restricted by statue is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that you comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identify, e-mail address, or other contact information unless you provide it in the body of your comment. In contrast to electronic public docket, EPA's electronic mail (e-mail) system is not an “anonymous access” system. If you send an e-mail comment directly to the Docket without going through EPA's electronic public docket, your e-mail address is automatically captured and included as part of the comment that is placed in the official docket, and made available in EPA's electronic public docket.

Dated: August 31, 2005.
Richard B. Ossias,
Acting Associate General Counsel, Air and Radiation Law Office, Office of General Counsel/

[FR Doc. 05-17815 Filed 9-7-05; 8:45 am]

BILLING CODE 6560-50-M